DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: December 15, 2016, 10:00 a.m.

PLACE: Room 2C, 888 First Street NE., Washington, DC 20426.

STATUS: Open.

MATTERS TO BE CONSIDERED: Agenda.

* Note —Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://ferc.capitolconnection.org/ using the eLibrary link, or may be examined in the Commission's Public Reference Room.

1033rd—Meeting Regular Meeting
[December 15, 2016 10:00 a.m.]
Item No. | Docket No. | Company
Administrative
A-1 | AD16-1-000 | Agency Administrative Matters.
A-2 | AD16-7-000 | Customer Matters, Reliability, Security and Market Operations.
Electric
E-1 | RM17-8-000 | Reform of Generator Interconnection Procedures and Agreements.
E-2 | RM17-3-000 | Fast-Start Pricing in Markets Operated by Regional Transmission Organizations and Independent System Operators.
E-3 | ER16-1058-000 EL16-56-000 | Consumers Energy Company.
E-4 | ER15-1436-000 | Entergy Gulf States Louisiana, LLC. Entergy Arkansas, Inc. Entergy Louisiana, LLC. Entergy Mississippi, Inc. Entergy New Orleans, Inc. Entergy Texas, Inc.
| ER15-1453-000 | Entergy Arkansas, Inc. Entergy Gulf States Louisiana, LLC. Entergy Louisiana, LLC. Entergy Mississippi, Inc. Entergy New Orleans, Inc. Entergy Texas, Inc.
| ER16-1528-000 (Consolidated) | Entergy Arkansas, Inc. Entergy Louisiana, LLC. Entergy Mississippi, Inc. Entergy New Orleans, Inc. Entergy Texas, Inc.
E-5 | Omitted
E-6 | Omitted
E-7 | EL17-5-000 | FLS Energy, Inc.
| QF16-876-001 | Bear Gulch Solar, LLC.
| QF16-877-001 | Fox Farm Solar, LLC.
| QF16-879-001 | Couch Solar, LLC.
| QF16-880-001 | Glass Solar, LLC.
| QF16-881-001 | Janney Solar, LLC.
| QF16-882-001 | Malt Solar, LLC.
| QF16-883-001 | Martin Solar, LLC.
| QF16-884-001 | Middle Solar, LLC.
| QF16-885-001 | Ulm Solar, LLC.
| QF16-886-001 | Valley View Solar, LLC.
| QF16-887-001 | River Solar, LLC.
| QF16-888-001 | Sage Creek Solar, LLC.
| QF16-889-001 | Sypes Canyon Solar, LLC.
| QF16-899-001 | Canyon Creek Solar, LLC.
E-8 | EL17-6-000 | Allco Renewable Energy Limted. Allco Finance Limited.
| QF11-193-002 | Ecos Energy, LLC.
| QF11-194-002 |
| QF11-195-002 |
| QF11-196-002 |
| QF11-197-002 |
| QF11-198-002 |
| QF11-199-002 |
| QF11-200-002 |
| QF11-201-002 |
| QF11-202-002 |
| QF11-203-002 |
E-9 | EL16-78-001 | Saguaro Power Company, A Limited Partnership.
| QF90-203-008
Gas
G-1 | PL17-1-000 | Inquiry Regarding the Commission's Policy for Recovery of Income Tax Costs.
G-2 | RP15-1022-000 RP16-581-000 (Consolidated) RP16-292-000 RP16-240-000 RP16-986-000 RP16-1045-000 (Not Consolidated) | Alliance Pipeline L.P.
G-3 | RP16-440-000 | ANR Pipeline Company.
G-4 | OR16-26-000 | Aircraft Service International Group, Inc. American Airlines, Inc. Delta Air Lines, Inc. Hooker's Point Fuel Facilities LLC. Southwest Airlines Co. United Aviation Fuels Corporation. United Parcel Service, Inc. v. Central Florida Pipeline LLC. Kinder Morgan Liquid Terminals LLC.
Hydro
H-1 | P-14753-001 | Rivertec Partners, LLC.
| P-14777-001 | Loxbridge Partners, LLC.
Certificates
C-1 | CP16-12-000 | Tennessee Gas Pipeline Company, LLC.
C-2 | CP15-557-000 | Total Peaking Services, LLC.

Issued: December 8, 2016.
Kimberly D. Bose,
Secretary.

A free webcast of this event is available through http://ferc.capitolconnection.org/. Anyone with Internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2016-30066 Filed 12-9-16; 4:15 pm]

BILLING CODE 6717-01-P